DEPARTMENT OF COMMERCE

National Oceanic and Atmospheric Administration

[RTID 0648-XB302]

Draft 2021 Marine Mammal Stock Assessment Reports

AGENCY: National Marine Fisheries Service (NMFS), National Oceanic and Atmospheric Administration (NOAA), Commerce.

ACTION: Notice; request for comments and new information.

SUMMARY: NMFS reviewed the Alaska, Atlantic, and Pacific regional marine mammal stock assessment reports (SARs) in accordance with the Marine Mammal Protection Act (MMPA). SARs for marine mammals in the Alaska, Atlantic, and Pacific regions were revised according to new information. NMFS solicits public comments on the draft 2021 SARs. NMFS is also requesting new information for strategic stocks that were not updated in 2021.

DATES: Comments must be received by January 24, 2022.

ADDRESSES: The 2021 draft SARs are available in electronic form via the internet at https://www.fisheries.noaa.gov/national/marine-mammal-protection/draft-marine-mammal-stock-assessment-reports.

Copies of the Alaska Regional SARs may be requested from Marcia Muto, Alaska Fisheries Science Center; copies of the Atlantic, Gulf of Mexico, and Caribbean Regional SARs may be requested from Elizabeth Josephson, Northeast Fisheries Science Center; and copies of the Pacific Regional SARs may be requested from Jim Carretta, Southwest Fisheries Science Center (see FOR FURTHER INFORMATION CONTACT below).

You may submit comments or new information, identified by NOAA-NMFS-2021-0130, through the Federal e-Rulemaking Portal:

Electronic Submission: Submit all electronic public comments via the Federal e-Rulemaking Portal. Go to https://www.regulations.gov and enter NOAA-NMFS-2021-0130 in the Search box. Click on the “Comment” icon, complete the required fields, and enter or attach your comments.

Instructions: NMFS may not consider comments if they are sent by any other method, to any other address or individual, or received after the end of the comment period. Due to delays in processing mail related to COVID-19 and health and safety concerns, no mail, courier, or hand deliveries will be accepted. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Zachary Schakner, Office of Science and Technology, 301-427-8106, Zachary.Schakner@noaa.gov; Marcia Muto, 206-526-4026, Marcia.Muto@noaa.gov, regarding Alaska regional stock assessments; Elizabeth Josephson, 508-495-2362, Elizabeth.Josephson@noaa.gov, regarding Atlantic, Gulf of Mexico, and Caribbean regional stock assessments; or Jim Carretta, 858-546-7171, Jim.Carretta@noaa.gov, regarding Pacific regional stock assessments.

SUPPLEMENTARY INFORMATION:

Background

Section 117 of the MMPA (16 U.S.C. 1361 et seq.) requires NMFS and the U.S. Fish and Wildlife Service (FWS) to prepare stock assessments for each stock of marine mammals occurring in waters under the jurisdiction of the United States, including the U.S. Exclusive Economic Zone (EEZ). These stock assessment reports (SARs) must contain information regarding the distribution and abundance of the stock, population growth rates and trends, estimates of annual human-caused mortality and serious injury (M/SI) from all sources, descriptions of the fisheries with which the stock interacts, and the status of the stock. Initial SARs were completed in 1995.

The MMPA requires NMFS and FWS to review the SARs at least annually for strategic stocks and stocks for which significant new information is available, and at least once every three years for non-strategic stocks. The term “strategic stock” means a marine mammal stock: (A) For which the level of direct human-caused mortality exceeds the potential biological removal level or PBR (defined by the MMPA as the maximum number of animals, not including natural mortalities, that may be removed from a marine mammal stock while allowing that stock to reach or maintain its optimum sustainable population); (B) which, based on the best available scientific information, is declining and is likely to be listed as a threatened species under the Endangered Species Act (ESA) within the foreseeable future; or (C) which is listed as a threatened species or endangered species under the ESA or is designated as depleted under the MMPA. NMFS and FWS are required to revise a SAR if the status of the stock has changed or can be more accurately determined.

In order to ensure that marine mammal SARs constitute the best scientific information available, the updated SARs under NMFS's jurisdiction are peer-reviewed within NOAA Fisheries Science Centers and by members of three regional independent Scientific Review Groups, established under the MMPA to independently advise NMFS. As a result of the review, revision, and assessment of available data, the period covered by the 2021 draft SARs is 2015 through 2019. While this results in a time lag, the extensive peer review process ensures the best scientific information is available in the SARs.

NMFS reviewed the status of all marine mammal strategic stocks as required and considered whether significant new information was available for all other stocks under NMFS's jurisdiction. As a result of this review, NMFS revised a total of 50 SARs in the Alaska, Atlantic, and Pacific regions to incorporate new information. The 2021 revisions to the SARs consist primarily of updated or revised human-caused M/SI estimates and updated abundance estimates. No stocks changed in status from “non-strategic” to “strategic.” Three stocks changed in status from “strategic” to “non-strategic.” Highlights of the draft 2021 SAR revisions are discussed below.

NMFS solicits public comments on the draft 2021 SARs. To ensure NMFS is aware of new information relevant to all strategic stocks, NMFS also requests new information for strategic stocks that were not updated in 2021. Specifically, new relevant information could include peer-reviewed information on human-caused M/SI, fishery interactions, abundance, distribution, stock structure, habitat concerns, and other information on emerging concerns for strategic stocks that could be incorporated into the SARs.

Alaska Reports

In 2021, NMFS reviewed new information for 19 stocks in the Alaska Region and revised five SARs under NMFS's jurisdiction: Four strategic stocks and one non-strategic stock. A list of the revised SARs in 2021 for the Alaska region is presented in Table 1. Information on the remaining Alaska region stocks can be found in the final 2020 SARs (Muto et al. 2021).

Table 1—List of Marine Mammal Stocks in the Alaska Region Revised in 2021
Strategic stocks | Non-strategic stocks
• Northern fur seal, Eastern Pacific.* • Beluga whale, Cook Inlet. • Harbor porpoise, Southeast Alaska.* • Bowhead whale, Western Arctic. | • Dall's porpoise, Alaska.*
* Includes updated abundance estimates.

Northern Fur Seal, Eastern Pacific

The updated abundance estimate for the Eastern Pacific stock of northern fur seals is 626,618 northern fur seals, based on pup production estimates on Sea Lion Rock (2014), on St. Paul and St. George Islands (mean of 2014, 2016, and 2018), and on Bogoslof Island (mean of 2015 and 2019). This is an increase from the previous estimate of 608,143 northern fur seals. The methods for estimating the population size are the same as previous years (the population size is estimated as the number of pups born at rookeries in the eastern Bering Sea multiplied by a series of expansion factors determined from a previous life table analysis). The updated minimum population estimate is 530,376 northern fur seals. The Eastern Pacific stock of northern fur seals remains classified as a strategic stock because it is designated as depleted under the MMPA.

Harbor Porpoise, Southeast Alaska

The updated best estimate of abundance (uncorrected for animals missed on the trackline), derived from a vessel survey in 2019, is 1,302 harbor porpoise. This estimate is not statistically different from the previous (uncorrected) estimate of 975 in 2010-2012. However, the estimates for both 2010-2012 and 2019 are for the inland waters of Southeast Alaska, which is only a portion of the range of this stock. The updated minimum population estimate for this stock is 1,057 porpoise.

Beluga Whale, Eastern Bering Sea

NMFS has temporarily withdrawn the final 2020 Eastern Bering Sea Beluga whale stock assessment report from the NMFS website in order to consult with the Alaska Beluga Whale Committee (ABWC) on the change in the stock's status from non-strategic to strategic, as is outlined in the NMFS-ABWC co-management agreement. This has been noted on the NOAA Fisheries website: https://www.fisheries.noaa.gov/national/marine-mammal-protection/marine-mammal-stock-assessment-reports-species-stock#cetaceans---small-whales.

NMFS is providing this information for awareness only and is not seeking public comment on the NMFS-ABWC co-management agreement, nor the final 2020 Eastern Bering Sea Beluga whale stock assessment report.

Atlantic Reports

In 2021, NMFS reviewed all 116 stocks in the Atlantic region for new information (including the Atlantic Ocean, Gulf of Mexico, and U.S. territories in the Caribbean). This year, NMFS revised 23 SARs in the Atlantic region (Table 2). No stocks changed in status from “non-strategic” to “strategic.” Three Northern Gulf of Mexico bay, sound and estuary stocks of common bottlenose dolphin changed from strategic to non-strategic (Galveston Bay, East Bay, Trinity Bay; Mississippi River Delta; and Sabine Lake). Previously, information for the Galveston Bay, East Bay, Trinity Bay stock of common bottlenose dolphins was contained within the report “Common Bottlenose Dolphin, Northern Gulf of Mexico Bay, Sound, and Estuary Stocks.” This stock now has its own report. A list of the revised SARs in the Atlantic region for 2021 is presented in Table 2. Information on the remaining Atlantic region stocks can be found in the final 2020 SARs (Hayes et al. 2021).

Table 2—List of Marine Mammal SARs in the Atlantic Region Revised in 2021
Strategic stocks | Non-strategic stocks
• North Atlantic right whale, Western North Atlantic (WNA).* | • Common bottlenose dolphin, Gulf of Mexico Eastern Coastal.*
• Fin whale, WNA. | • Common bottlenose dolphin, Gulf of Mexico Western Coastal.*
• Sei whale, Nova Scotia. | • Common bottlenose dolphin, Gulf of Mexico Northern Coastal.*
• Common bottlenose dolphin, Mississippi Sound, Lake Borgne, Bay Boudreau.* | • Common bottlenose dolphin, Northern Gulf of Mexico Continental Shelf.*
• Common bottlenose dolphin, Barataria Bay Estuarine System.* | • Common bottlenose dolphin, West Bay.*
• Common bottlenose dolphin, Northern Gulf of Mexico Bay, Sound, and Estuary Stocks.** | • Common bottlenose dolphin, Galveston Bay, East Bay, Trinity Bay.
| • Atlantic white-sided dolphin, WNA.
| • Atlantic spotted dolphin, Northern Gulf of Mexico.*
| • Long-finned pilot whale, WNA.
| • Harp seal, WNA.*
| • Short-finned pilot whale, WNA.
| • Common Minke whale, Canadian East Coast.
| • Common dolphin, WNA.
| • Harbor porpoise, Gulf of Maine/Bay of Fundy.
| • Harbor seal, WNA.*
| • Gray seal, WNA.*
| • Risso's dolphin, WNA.
* Includes updated abundance estimates.
** Excluding the Sabine Lake, Mississippi River Delta, and Sarasota Bay/Little Sarasota Bay stocks.

North Atlantic Right Whale, Western North Atlantic

The new abundance estimate calculated for the western North Atlantic right whale stock is 368 individuals, which is a decrease from the previous estimate of 412 individuals contained in the 2020 report. This updated estimate is based on a published state-space model of the sighting histories of individual whales identified using photo-identification techniques (Pace et al. 2017, Pace 2021) and reflects the impacts of the ongoing Unusual Mortality Event declared in 2017 for the species (NMFS 2021).

Harp Seal, Western Atlantic

Per recommendations by the Atlantic Scientific Review Group, a PBR was calculated for harp seal based on the minimum estimate of abundance in Canadian waters because there is no known resident population in U.S. waters. PBR for the western North Atlantic harp seal is 426,000; previously the PBR was reported as unknown. The best estimate of abundance for western North Atlantic harp seals, based on the last 2017 survey, is 7.6 million (95 percent Confidence Intervals 6.5-8.8 million; DFO 2020).

Pacific Reports

In 2021, NMFS reviewed all 85 stocks in the Pacific region (waters along the west coast of the United States, within waters surrounding the main and Northwestern Hawaiian Islands, and within waters surrounding U.S. territories in the Western Pacific) for new information, and revised SARs for 22 stocks (6 strategic and 16 non-strategic). A list of revised SARs in 2021 for the Pacific region is presented in Table 3. Information on the remaining Pacific region stocks can be found in the final 2020 SARs (Carretta et al. 2021).

Table 3—List of Marine Mammal SARs in the Pacific Region Revised in 2021
Strategic stocks | Non-strategic stocks
• False killer whale, Main Hawaiian Islands Insular. | • Baird's beaked whale, California/Oregon/Washington.
• Hawaiian monk seal.* | • Common Bottlenose dolphin, California/Oregon/Washington Offshore.*
• Killer whale, Eastern North Pacific Southern Resident.* | • Short-beaked common dolphin, California/Oregon/Washington.*
• Humpback whale, California/Oregon/Washington. | • Long-beaked common dolphin, California/Oregon/Washington.*
• Fin whale, California/Oregon/Washington.
• Blue whale, Eastern North Pacific. | • Dall's porpoise, California/Oregon/Washington.
| • Harbor porpoise, Monterey Bay.*
| • Harbor porpoise, Morro Bay.*
| • Harbor porpoise, Northern California Southern Oregon.*
| • Harbor porpoise, San Francisco Russian River.*
| • Minke whale, California/Oregon/Washington.
| • Northern Elephant seal, California breeding.
| • Northern right whale dolphin, California/Oregon/Washington.*
| • Pacific White-sided dolphin, California/Oregon/Washington.*
| • Striped dolphin, California/Oregon/Washington.*
| • False killer whale, Northwest Hawaiian Islands.*
| • False killer whale, Hawaii Pelagic.*
* Includes updated abundance estimates.

Updated Abundance Estimates for California Current Stocks

The majority of the revised Pacific SARs contain new abundance estimates from the California Current Ecosystem Survey using a consistent analysis approach. Given the heterogeneity of the 2018 survey coverage in the California Coastal Ecosystem study area, Species Distribution Models were used to estimate abundance for numerous U.S. West Coast marine mammal stocks rather than using design-based analytical approaches. The use of species distribution models for density and abundance estimation is well-established for this region and models incorporate changes in species abundance and habitat shifts over time.

References

Carretta et al. 2021. U.S. Pacific Marine Mammal Stock Assessments: 2020, U.S. Department of Commerce, NOAA Technical Memorandum NMFS-SWFSC-646.

DFO 2020. 2019 status of Northwest Atlantic harp seals, (Pagophilus groenlandicus). Department of Fisheries and Oceans. DFO Can. Sci. Advis. Sec. Sci. Rep. 2020/020. 14 pp.

Hayes, S.A., E. Josephson, K. Maze-Foley, P.E. Rosel, and J. Turek. 2021. US Atlantic and Gulf of Mexico marine mammal stock assessments 2020. NOAA Tech Memo NMFS-NE-271. 403 pp.

Muto, M. M., V. T. Helker, B. J. Delean, N. C. Young, J. C. Freed, R. P. Angliss, N. A. Friday, P. L. Boveng, J. M. Breiwick, B. M. Brost, M. F. Cameron, P. J. Clapham, J. L. Crance, S. P. Dahle, M. E. Dahlheim, B. S. Fadely, M. C. Ferguson, L. W. Fritz, K. T. Goetz, R. C. Hobbs, Y. V. Ivashchenko, A. S. Kennedy, J. M. London, S. A. Mizroch, R. R. Ream, E. L. Richmond, K. E. W. Shelden, K. L. Sweeney, R. G. Towell, P. R. Wade, J. M. Waite, and A. N. Zerbini. 2021. Alaska marine mammal stock assessments, 2020. U.S. Dep. Commer., NOAA Tech. Memo. NMFS-AFSC-421, 398 p.

NMFS. 2021, August 11. 2017-2021 North Atlantic Right Whale Unusual Mortality Event. https://www.fisheries.noaa.gov/national/marine-life-distress/2017-2021-north-atlantic-right-whale-unusual-mortality-event.

Pace, R.M. 2021. Revisions and further evaluations of the right whale abundance model: improvements for hypothesis testing. NOAA Tech Memo NMFS-NE 269. 54 pp.

Pace, R.M., III, P.J. Corkeron and S.D. Kraus. 2017. State-space mark-recapture estimates reveal a recent decline in abundance of North Atlantic right whales. Ecol. and Evol. 7:8730-8741. DOI: 10.1002/ece3.3406

Dated: October 19, 2021.
Evan Howell,
Director, Office of Science and Technology, National Marine Fisheries Service.

[FR Doc. 2021-23225 Filed 10-22-21; 8:45 am]

BILLING CODE 3510-22-P